DEPARTMENT OF HEALTH AND HUMAN SERVICES

Agency for Healthcare Research and Quality

Citizen's Health Care Working Group Interim Recommendations

Correction

In notice document 06-5379 beginning on page 34369 in the issue of Wednesday, June 14, 2006, make the following corrections:

1. On page 34370, in the first column, under the heading Preamble, in the first paragraph, in the ninth line, “pried” should read “priced”.

2. On the same page, in the same column, under the same heading, in the second paragraph, in the third line, “impeded” should read “impede”.

3. On the same page, in the second column, in the first indented paragraph, in the 11th line, “experience” should read “experienced”.

4. On the same page, in the third column, in the third line from the bottom of the page, “as” should read “at”.

5. On page 34371, in the first column, in the first indented paragraph, in the fifth line, “312” should read “31”.

6. On page 34372, in the second column, in the first bulleted paragraph, in the second line, “preventived” should read “preventive”.

7. On page 34373, in the first column, in the third line from the bottom of the column, “not” should read “no”.

[FR Doc. C6-5379 Filed 7-5-06; 8:45 am]

BILLING CODE 1505-01-D